DEPARTMENT OF COMMERCE

International Trade Administration

Rescission of Antidumping and Countervailing Duty Administrative Reviews

AGENCY: Enforcement and Compliance, International Trade Administration, Department of Commerce.

SUMMARY: Based upon the timely withdrawal of all review requests, the U.S. Department of Commerce (Commerce) is rescinding the administrative reviews covering the periods of review (PORs) of the antidumping duty (AD) and countervailing duty (CVD) orders identified in the table below.

DATES: Applicable February 13, 2026.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Pursuant to 19 CFR 351.221(c)(1)(i),¹ based upon timely requests for review, Commerce initiated administrative reviews of certain companies for the PORs and the AD and CVD orders listed in the table below. All requests for these reviews have been timely withdrawn.²

¹ See Initiation of Antidumping and Countervailing Duty Administrative Reviews, 90 FR 26967 (June 25, 2025); Initiation of Antidumping and Countervailing Duty Administrative Reviews, 90 FR 21459 (July 25, 2025); Initiation of Antidumping and Countervailing Duty Administrative Reviews, 90 FR 41043 (August 22, 2025); and Initiation of Antidumping and Countervailing Duty Administrative Reviews, 90 FR 46173 (September 25, 2025).

² The letters withdrawing the review requests may be found in Enforcement and Compliance's Antidumping and Countervailing Duty Centralized Electronic Service System (ACCESS). ACCESS is available to registered users at https://access.trade.gov.

Rescission of Review

Pursuant to 19 CFR 351.213(d)(1), Commerce will rescind an administrative review, in whole or in part, if the parties that requested the review withdraw their review requests within 90 days of the date of publication of the notice of initiation for the requested review. All parties withdrew their requests for the reviews listed in the table below within the 90-day deadline. No other parties requested administrative reviews of these AD/CVD orders for the PORs noted in the table. Therefore, in accordance with 19 CFR 351.213(d)(1), Commerce is rescinding, in their entirety, the administrative reviews listed in the table below.

| Period of review
AD Proceedings
Burma: Mattresses, A-546-001 | 12/2/2023-6/30/2025
Canada: Utility Scale Wind Tower, A-122-867 | 8/1/2024-7/31/2025
India:
Brass Rod, A-533-915 | 12/1/2023-5/31/2025
Raw Honey, A-533-903 | 6/1/2024-5/31/2025
Japan: Certain Cold-Rolled Steel Flat Products, A-588-873 | 7/1/2024-6/30/2025
Mexico: Brass Rod A-201-858 | 12/1/2023-5/31/2025
Socialist Republic of Vietnam:
Boltless Steel Shelving Units Prepacked for Sale, A-552-835 | 11/29/2023-5/31/2025
Certain Steel Nails, A-552-818 | 7/1/2024-6/30/2025
Oil Country Tubular Goods, A-552-817 | 9/1/2024-8/31/2025
Seamless Refined Copper Pipe and Tube, A-552-831 | 8/1/2024-7/31/2025
Taiwan: Boltless Steel Shelving Units Prepacked for Sale, A-583-871 | 6/1/2024-5/31/2025
The People's Republic of China:
Certain Collated Steel Staples, A-570-112 | 7/1/2024-6/30/2025
Certain Vertical Shaft Engines Between 99cc and up to 225cc, And Parts Thereof, A-570-124 | 5/1/2024-4/30/2025
Ukraine: Seamless Carbon and Alloy Steel Standard, Line, and Pressure Pipe, A-823-819 | 8/1/2024-7/31/2025
CVD Proceedings
Canada: Utility Scale Wind Tower, C-122-868 | 1/1/2024-12/31/2024
India:
Certain Non-Refillable Steel Cylinders, C-533-913 | 9/29/2023-12/31/2024
Certain Paper Shopping Bags, C-533-918 | 11/6/2023-12/31/2024
The People's Republic of China: Certain Collated Steel Staples, C-570-113 | 1/1/2024-12/31/2024

Assessment

Commerce will instruct U.S. Customs and Border Protection (CBP) to assess antidumping and/or countervailing duties on all appropriate entries during the PORs noted above for each of the listed administrative reviews at rates equal to the cash deposit of estimated antidumping or countervailing duties, as applicable, required at the time of entry, or withdrawal of merchandise from warehouse, for consumption, in accordance with 19 CFR 351.212(c)(1)(i). Commerce intends to issue assessment instructions to CBP no earlier than 35 days after the date of publication of this recission notice in the Federal Register for rescinded administrative reviews of AD/CVD orders on countries other than Canada and Mexico. For rescinded administrative reviews of AD/CVD orders on Canada or Mexico, Commerce intends to issue assessment instructions to CBP no earlier than 41 days after the date of publication of this recission notice in the Federal Register, in accordance with 19 CFR 356.8(a).

Notification to Importers

This notice serves as the only reminder to importers of merchandise subject to AD orders of their responsibility under 19 CFR 351.402(f)(2) to file a certificate regarding the reimbursement of antidumping duties and/or countervailing duties prior to liquidation of the relevant entries during the POR. Failure to comply with this requirement could result in the presumption that reimbursement of antidumping duties and/or countervailing duties occurred and the subsequent assessment of doubled antidumping duties.

Notification Regarding Administrative Protective Order (APO)

This notice also serves as the only reminder to parties subject to an APO of their responsibility concerning the disposition of proprietary information disclosed under APO in accordance with 19 CFR 351.305(a)(3), which continues to govern business proprietary information in these segments of these proceedings. Timely written notification of the return or destruction of APO materials or conversion to judicial protective order is hereby requested. Failure to comply with the regulations and the terms of an APO is a sanctionable violation.

Notification to Interested Parties

This notice is issued and published in accordance with sections 751(a)(1) and 777(i)(1) of the Tariff Act of 1930, as amended, and 19 CFR 351.213(d)(4).

Dated: February 10, 2026.
Scot Fullerton,
Acting Deputy Assistant Secretary for Antidumping and Countervailing Duty Operations.

[FR Doc. 2026-02959 Filed 2-12-26; 8:45 am]

BILLING CODE 3510-DS-P